DEPARTMENT OF THE INTERIOR

Fish and Wildlife Service

[FWS-R8-ES-2017-N115; FRES48020810360-XXX]

Draft Habitat Conservation Plan for the California Department of Parks and Recreation Oceano Dunes District, San Luis Obispo County, California; Notice of Intent To Prepare Environmental Assessment or Environmental Impact Statement; Initiation of Public Scoping Process

AGENCY: Fish and Wildlife Service, Interior.

ACTION: Notice of intent; request for comments.

SUMMARY: We, the U.S. Fish and Wildlife Service (Service), intend to prepare draft environmental analysis (either an environmental assessment or an environmental impact statement) under the National Environmental Policy Act (NEPA) for the proposed habitat conservation plan for the California Department of Parks and Recreation Oceano Dunes District (HCP). The HCP is a conservation plan as required under the Endangered Species Act of 1973, as amended (ESA), for issuance of an incidental take permit (ITP). The draft environmental analysis will evaluate the impacts of several alternatives related to the proposed issuance of an ITP to the California Department of Parks and Recreation Oceano Dunes District (CDPR, applicant) for incidental take of threatened and endangered wildlife species that could result from activities covered under the HCP. The HCP would also include conservation measures for endangered plants. We also are announcing the initiation of a public scoping process to engage Federal, Tribal, State, and local governments and the public in the identification of issues and concerns, potential impacts, and possible alternatives to the proposed action.

DATES: In order to be included in the analysis, all comments must be received or postmarked on or before March 12, 2018. We will hold public scoping meetings at a location in the vicinity of the proposed plan area. At least one week prior to the meeting dates, we will announce exact meeting locations, dates, and times in local newspapers and on the internet at https://www.fws.gov/ventura/.

ADDRESSES: Please provide comments in writing by one of the following methods:

• Email: lena_chang@fws.gov. Please include Oceano Dunes HCP in the subject line of the message.

• Facsimile: 805-644-3958, Attn: Oceano Dunes HCP.

• U.S. Mail: Field Supervisor, Ventura Fish and Wildlife Office, U.S. Fish and Wildlife Service, 2493 Portola Road, Suite B, Ventura, CA 93003. Please specify that your information request or comments concern the Oceano Dunes HCP.

FOR FURTHER INFORMATION CONTACT: Lena Chang, by U.S. mail (see ADDRESSES), or by phone at 805-677-3305. If you use a telecommunications device for the deaf, please call the Federal Relay Service at 800-877-8339.

SUPPLEMENTARY INFORMATION: We, the U.S. Fish and Wildlife Service (Service), intend to prepare an environmental analysis under the National Environmental Policy Act, as amended (42 U.S.C. 4321 et seq.; NEPA), for the proposed habitat conservation plan (HCP) for the California Department of Parks and Recreation Oceano Dunes District. The HCP is a conservation plan as required under the Endangered Species Act of 1973, as amended (16 U.S.C. 1531 et seq.; ESA), for issuance of a section 10(a)(1)(B) incidental take permit (ITP). The proposed ITP would authorize the incidental take of threatened and endangered wildlife species that could result from ongoing activities associated with the public use, recreation management, natural resources management, and park and beach management in two coastal Oceano Dunes District park units and an associated inland lake located in San Luis Obispo County, California. The HCP would also include conservation measures to protect endangered plant species. We also are announcing the initiation of a public scoping process to engage Federal, Tribal, State, and local governments and the public in the identification of issues and concerns, potential impacts, and possible alternatives to the proposed action. Upon completion of the public scoping process and completion of our review of the applicant's proposed HCP, we may determine that an environmental assessment rather than an environmental impact statement is sufficient to support potential issuance of the ITP.

Background

Section 9 of the ESA and its implementing regulations prohibit “take” of fish and wildlife species listed as endangered or threatened (16 U.S.C. 1538; 50 CFR 17.21 and 17.31). Under section 3 of the ESA, the term “take” means to harass, harm, pursue, hunt, shoot, wound, kill, trap, capture, or collect, or to attempt to engage in any such conduct (16 U.S.C. 1532(19)). The term “harm” is further defined by regulation as an act that actually kills or injures wildlife. Such acts may include significant habitat modification or degradation where it actually kills or injures wildlife by significantly impairing essential behavioral patterns, including breeding, feeding, or sheltering (50 CFR 17.3). The term “harass” is also further defined in the regulations as an intentional or negligent act or omission that creates the likelihood of injury to wildlife by annoying it to such an extent as to significantly disrupt normal behavioral patterns, which include, but are not limited to, breeding, feeding, or sheltering (50 CFR 17.3).

Under section 10(a)(1)(B) of the ESA, the Secretary of the Interior may authorize the taking of federally listed species if such taking occurs incidental to otherwise legal activities and where a conservation plan has been developed under section 10(a)(2)(A) that describes: (1) The impact that will likely result from such taking; (2) the steps an applicant will take to minimize and mitigate that take to the maximum extent practicable and the funding that will be available to implement such steps; (3) the alternative actions to such taking that an applicant considered and the reasons why such alternatives are not being utilized; and (4) other measures that the Service may require as being necessary or appropriate for the purposes of the plan. Issuance criteria under section 10(a)(2)(B) for an incidental take permit require the Service to find that: (1) The taking will be incidental to otherwise lawful activities; (2) an applicant will, to the maximum extent practicable, minimize and mitigate the impacts of such taking; (3) an applicant has ensured that adequate funding for the plan will be provided; (4) the taking will not appreciably reduce the likelihood of the survival and recovery of the species in the wild; and (5) the measures, if any, we require as necessary or appropriate for the purposes of the plan will be met. Regulations governing permits for endangered and threatened species are at 50 CFR 17.22 and 17.32, respectively.

Public Scoping

A primary purpose of the scoping process is to receive suggestions and information on the scope of issues and alternatives to consider when drafting the environmental documents and to identify significant issues and reasonable alternatives related to the Service's proposed action (issuance of an ITP under the HCP). In order to ensure that we identify a range of issues and alternatives related to the proposed action, we invite comments and suggestions from all interested parties. We will conduct a review of this project according to the requirements of NEPA and its regulations, other relevant Federal laws, regulations, policies, and guidance, and our procedures for compliance with applicable regulations. Once the environmental documents are completed, we will offer further opportunities for public comment.

Proposed Action

The proposed action is the issuance of an incidental take permit (ITP) for the covered species for the recreational and management activities within the proposed permit area for a period of 25 years. The proposed HCP, which must meet the requirements of section 10(a)(2)(A) of the ESA by providing measures to minimize and mitigate the effects of the potential incidental take of covered species to the maximum extent practicable, would be developed and implemented by the applicant. This alternative could allow for a comprehensive mitigation approach for unavoidable impacts and reduce permit processing times and efforts for the applicant and the Service.

Activities proposed for coverage under the proposed ITP would be otherwise lawful activities that could occur consistent with the HCP, include, but are not limited to:

1. Park Visitor Activities: Motorized recreation, including off highway vehicle use (i.e., 4x4, all-terrain vehicle, quad, motorcycle, and sandrail); camping; pedestrian activities including picnicking, sunbathing, swimming, hiking; bicycling and golfing; fishing; dog walking (on leash only); equestrian recreation; boating/surfing; and aerial/wind driven activities, including kiteboarding; and holiday or special events.

2. Natural Resources and Covered Species Management: Management for bird species (habitat protections, habitat enhancement, monitoring, banding, tracking, predator control, and other ongoing programs, salvaging abandoned eggs and chicks; fish surveys; amphibian surveys and associated management; plant monitoring, propagation, and habitat enhancement; habitat restoration program, including seed collection, propagation, planting, monitoring, and minor grading to access work areas; exotic pest plant and animal control, including prescribed fire, herbicide application, and hand clearing of paths to access work areas; Habitat Monitoring System implementation, including small mammal trapping, point counts, shorebird counts, and coverboards; and water quality monitoring and improvement projects.

3. Park Maintenance: Campground maintenance, including mowing, hazardous tree program, restroom upkeep, and housekeeping; general facilities maintenance; trash control; wind fence installation, maintenance, and removal; sand ramp and other vehicular access maintenance, including roadway resurfacing; street sweeping; routine riparian maintenance; spillway and culvert maintenance; vegetation management along trails and roads; emergent vegetation control; minor flood control maintenance; perimeter and vegetation island fence installation, maintenance, and removal; cable fence maintenance and sand movement; heavy equipment response in all areas of Oceano Dunes State Vehicular Recreation Area; minor grading (less than 50 cubic yards); and boardwalk and other pedestrian access maintenance.

4. Visitor Services: Ranger, lifeguard, and park aide patrols; emergency response, including accidents, injuries, distressed vessels, search and rescue; access by non-CDPR vehicles; American Safety Institute courses, including all-terrain vehicles and recreational utility vehicle courses; concessions; Pismo Beach Golf Course operations; Grover Beach Lodge and Conference Center; natural history and interpretation programs, including stationary programs, roving interpretation, interpretive walks, and driving tours.

5. Other HCP Covered Activities: Motorized vehicle crossing of Arroyo Grande Creek; Pismo Creek estuary seasonal (floating) bridge; recreational riding in 40 acres; replacement of the Safety and Education Center; dust control activities; cultural resources management; management of agricultural lands; maintenance of bioreactor on agricultural lands; Oso Flaco Lake causeway culvert replacement; special projects; and reduction of the Boneyard and 6 exclosures.

We anticipate that the following 10 Federal and State listed species will be included as covered species in the applicant's proposed HCP. *The applicant is seeking incidental take authorization for the four covered animal species.

Federally Endangered: *California least tern (Sternula antillarum browni), *tidewater goby (Eucyclogobius newberryi), Gambel's watercress (Rorippa gambelii), La Graciosa thistle (Cirsium scariosum var. loncholepis), marsh sandwort (Arenaria paludicola), Nipomo Mesa lupine (Lupinus nipomensis)

Federally Threatened: *western snowy plover (Charadrius nivosus nivosus), *California red-legged frog (Rana draytonii)

Not Federally Listed: surf thistle (Cirsium rhothophilum), beach spectaclepod (Dithyrea maritime)

Candidate and federally listed species not likely to be taken by the covered activities and therefore not covered by the proposed ITP may also be addressed in the proposed HCP to explain why the applicant believes these species will not be taken.

Other Alternatives

The proposed action presented in the environmental analysis will be compared to the no-action alternative. The no-action alternative compares estimated future conditions without implementation of the proposed HCP to the estimated future conditions with the HCP in place. The no action and one other alternative, including their potential impacts, will be addressed and are outlined below.

No-Action Alternative

Because the proposed covered activities are integral to CDPR's operational mission, these activities would continue regardless of whether this 10(a)(1)(B) ITP is issued. Without a 10(a)(1)(B) ITP, the applicant should avoid impacts to protected species' habitat. Where potential impacts to federally protected species within the proposed permit area could not be avoided, the applicant should seek an individual section 10(a)(1)(B) ITP on a project-by-project basis. Although future activities by the applicant would be similar to those covered by the HCP, not all activities would necessitate an incidental take permit. Thus, under the no-action alternative, the applicant would likely have to file numerous separate section 10(a)(1)(B) permit applications over the 25-year project period. This activity-by-activity approach would be more time consuming and less efficient than authorizing activities under this comprehensive incidental take permit, and could result in a fragmented mitigation approach.

Proposed Action Without Reduction of Exclosure Boundaries

This alternative is the proposed action without reductions in exclosure boundaries in the Boneyard and 6 exclosure areas. With this alternative, the boundaries of the Boneyard and 6 exclosures would not be reduced in size to increase areas for recreation. Off highway vehicle and camping opportunities in this area would remain as they are under the current management program.

Public Availability of Comments

Written comments we receive become part of the public record associated with this action. Before including your address, phone number, email address, or other personal identifying information in your comment, you should be aware that the entire comment—including your personal identifying information—may be made publicly available at any time. While you can ask us in your comment to withhold your personal identifying information from public review, we cannot guarantee that we will be able to do so. Comments and materials we receive, as well as supporting documentation we use in preparing the environmental analysis, will be available for public inspection, by appointment, during normal business hours at the Service's Ventura Fish and Wildlife Office in Ventura, California (see ADDRESSES, above).

Scoping Meetings

See DATES for the date and times of our public meetings. The purpose of scoping meetings is to provide the public with a general understanding of the background of the proposed HCP and activities it would cover, alternative proposals under consideration, and the Service's role and steps to be taken to develop the draft environmental analysis for the proposed HCP.

Additionally, the purpose of these meetings and public comment period is to solicit suggestions and information on the scope of issues and alternatives for the Service to consider when preparing the draft environmental documents. Oral and written comments will be accepted at the meetings. Comments can also be submitted by methods listed in the ADDRESSES section. Once the draft environmental documents and proposed HCP are complete and made available for review, there will be additional opportunity for public comment on the content of these documents through an additional comment period.

Meeting Location Accommodations

Please note that the meeting location will be accessible to wheelchair users. If you require additional accommodations, please notify us at least 1 week in advance of the meeting.

Authority

We publish this notice in compliance with the NEPA and its implementing regulations (40 CFR 1501.7, 1506.6, and 1508.22), and section 10(c) of the ESA.

Dated: December 28, 2017.
Stephen P. Henry,
Field Supervisor, Pacific Southwest Region, U.S. Fish and Wildlife Service.

[FR Doc. 2017-28489 Filed 1-10-18; 8:45 am]

BILLING CODE 4333-15-P